DEPARTMENT OF THE INTERIOR

National Park Service

[NPS-WASO-NAGPRA-11892; 2200-1100-665]

Notice of Inventory Completion: The Museum of Anthropology at Washington State University, Pullman, WA

AGENCY: National Park Service, Interior.

ACTION: Notice.

SUMMARY: The Museum of Anthropology has completed an inventory of human remains and associated funerary objects, in consultation with the appropriate Indian tribe, and has determined that there is a cultural affiliation between the human remains and associated funerary objects and the Spokane Tribe of the Spokane Reservation. Representatives of any Indian tribe that believes itself to be culturally affiliated with the human remains and associated funerary objects may contact the Museum of Anthropology at Washington State University. Repatriation of the human remains associated funerary items to the Spokane Tribe of the Spokane Reservation may occur if no additional claimants come forward.

DATES: Representatives of any Indian tribe that believes it has a cultural affiliation with the human remains and associated funerary objects should contact the Museum of Anthropology at Washington State University at the address below by February 11, 2013.

ADDRESSES: Mary Collins, Museum of Anthropology at Washington State University, Pullman, WA 99164-4910, telephone (509) 335-4314.

SUPPLEMENTARY INFORMATION: Notice is here given in accordance with the Native American Graves Protection and Repatriation Act (NAGPRA), 25 U.S.C. 3003, of the completion of an inventory of human remains and associated funerary objects in the possession of the Museum of Anthropology at Washington State University, Pullman, WA. The human remains and associated funerary objects were removed from Stevens County, WA.

This notice is published as part of the National Park Service's administrative responsibilities under NAGPRA, 25 U.S.C. 3003(d)(3). The determinations in this notice are the sole responsibility of the museum, institution, or Federal agency that has control of the Native American human remains associate funerary objects. The National Park Service is not responsible for the determinations in this notice.

Consultation

A detailed assessment of the human remains was made by the Museum of Anthropology at Washington State University professional staff in consultation with representatives of the Spokane Tribe of the Spokane Reservation.

History and Description of the Remains

In 1979, human remains representing, at minimum, one individual were removed from archaeological site 45ST174 in Stevens County, WA. The remains were recovered from the surface in an area disturbed by bulldozer work associated with road construction. Archaeologists working for the Washington Archaeological Research Center at Washington State University collected the remains. In 1979, the human remains and associated funerary items were transferred to the University of Idaho. In 2000, they were returned to the Museum of Anthropology at Washington State University. No known individuals were identified. The two associated funerary objects are fragments of antler digging stick handles. The associated funerary items suggest the burial is from the Late Prehistoric Period.

The site is within the traditional territory of the Spokane Tribe of the Spokane Reservation. Historical, ethnographic, linguistic, and archaeological information links the site to the Spokane Tribe of the Spokane Reservation.

Determinations Made by the Museum of Anthropology at Washington State University

Officials of the Museum of Anthropology at Washington State University have determined that:

• Pursuant to 25 U.S.C. 3001(9), the human remains described in this notice represent the physical remains of one individual of Native American ancestry.

• Pursuant to 25 U.S.C. 3001(3)(A), the two objects described above are reasonably believed to have been placed with or near individual human remains at the time of death or later as part of the death rite or ceremony.

• Pursuant to 25 U.S.C. 3001(2), there is a relationship of shared group identity that can be reasonably traced between the Native American human remains and associated funerary objects and the Spokane Tribe of the Spokane Reservation.

Additional Requestors and Disposition

Representatives of any Indian tribe that believes itself to be culturally affiliated with the human remains and associated funerary objects should contact Mary Collins, Museum of Anthropology at Washington State University Pullman, WA 99164-4910, telephone (509) 335-4314, before February 11, 2013. Repatriation of the human remains and associated funerary objects to the Spokane Tribe of the Spokane Reservation may proceed after that date if no additional claimants come forward.

The Museum of Anthropology at Washington State University is responsible for notifying the Spokane Tribe of the Spokane Reservation that this notice has been published.

Dated: December 7, 2012.
Melanie O'Brien,
Acting Manager, National NAGPRA Program.

[FR Doc. 2013-00437 Filed 1-10-13; 8:45 am]

BILLING CODE 4312-50-P